FEDERAL COMMUNICATIONS COMMISSION

Notice of Public Information Collection(s) Being Submitted for Review to the Office of Management and Budget

September 29, 2008.

SUMMARY: The Federal Communications Commission, as part of its continuing effort to reduce paperwork burden invites the general public and other Federal agencies to take this opportunity to comment on the following information collection(s), as required by the Paperwork Reduction Act (PRA) of 1995, 44 U.S.C. 3501-3520. An agency may not conduct or sponsor a collection of information unless it displays a currently valid control number. No person shall be subject to any penalty for failing to comply with a collection of information subject to the Paperwork Reduction Act (PRA) that does not display a valid control number. Comments are requested concerning (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before November 3, 2008. If you anticipate that you will be submitting PRA comments, but find it difficult to do so within the period of time allowed by this notice, you should advise the FCC contact listed below as soon as possible.

ADDRESSES: Direct all PRA comments to Nicholas A. Fraser, Office of Management and Budget, (202) 395-5887, or via fax at 202-395-5167 or via internet at Nicholas_A._Fraser@omb.eop.gov and to Judith-B.Herman@fcc.gov, Federal Communications Commission, or an e-mail to PRA@fcc.gov. To view a copy of this information collection request (ICR) submitted to OMB: (1) Go to the Web page http://reginfo.gov/public/do/PRAMain, (2) look for the section of the Web page called “Currently Under Review”, (3) click on the downward-pointing arrow in the “Select Agency” box below the “Currently Under Review” heading, (4) select “Federal Communications Commission” from the list of agencies presented in the “Select Agency” box, (5) click the “Submit” button to the right of the “Select Agency” box, and (6) when the list of FCC ICRs currently under review appears, look for the title of this ICR (or its OMB Control Number, if there is one) and then click on the ICR Reference Number to view detailed information about this ICR.

FOR FURTHER INFORMATION CONTACT: For additional information or copies of the information collection(s), contact Judith B. Herman at 202-418-0214 or via the Internet at Judith-B.Herman@fcc.gov.

SUPPLEMENTARY INFORMATION: OMB Control Number: 3060-1116.

Title: Submarine Cable Reporting.

Form No.: N/A.

Type of Review: Revision of a currently approved collection.

Respondents: Business or other for-profit.

Number of Respondents: 28 respondents; 53 responses.

Estimated Time per Response: 190 hours.

Frequency of Response: On occasion, annual and one-time reporting requirement.

Obligation to Respond: Voluntary.

Total Annual Burden: 10,070 hours.

Total Annual Cost: N/A.

Privacy Act Impact Assessment: N/A.

Nature and Extent of Confidentiality: Information provided pursuant to this request will be viewed as presumptively confidential upon submission because the information would reflect reports on weaknesses in or damage to national communications infrastructure, and the release of this sensitive information to the public could potentially facilitate terrorist targeting of critical infrastructure and key resources. The submissions also may contain internal confidential information that constitutes trade secrets and commercial/financial information that the respondent does not rountinely make public and public release of the submitted information could cause competitive harm by revealing information about the types and deployment of cable equipment and the traffic that flows across the system. See item 10 of the supporting statement submitted to OMB with this submission.

Needs and Uses: The Federal Communications Commission sought and received emergency OMB approval for this information collection on April 16, 2008. The Commission is now submitting this information collection (IC) to the OMB as a revision during this comment period to obtain the full three-year clearance from them. The Commission is reporting a -17,430 burden hour reduction (adjustment). This adjustment is due to a recalculation of a re-estimate of the average burden per respondent which was reduced from 550 hours per response to 190 hours per response.

The Commission initially contacted AT&T and Verizon, two of the largest submarine cable operators, regarding this information request. Subsequently, the Commission provided the submarine cable operators an opportunity to comment on this information collection request by having informal discussions with them and by inviting them to a meeting held at the Commission's headquarters on May 13, 2008. Based on our discussions, we believe the submarine cable operators already have much of this information, and we amended the information request to clarify that the operators would not be required to generate new information in order to comply with this request but should supply the information to the extent it is generated in the normal course of business. We, therefore, are not asking for the operator to provide information not already generated in the operation of the submarine cable systems or in possession of the operator.

Specifically, the Commission requests that the cable landing licensees provide the following information regarding the submarine cable systems: (1) System status and restoration; (2) terrestrial route map; (3) undersea location spreadsheet; and (4) restoration capability.

With this revision to the OMB, there are some differences between this information collection request and the one for which emergency approval was granted. First, it recognizes that operator-generated information covering system status and restoration data in item (1) varies widely in format, content, threshold, and volume. Some may not generate all fields of data. Further, it clarifies that operators are not required to generate new information in order to comply with this request but should supply the information to the extent that it is generated in the normal course of business. Second, it allows operators to provide a terrestrial route map as either a map or an Excel spreadsheet (approved as only a map requirement in the emergency request). Third, it clarifies that operators should annually update information related to items (2), (3), and (4)—the terrestrial route map, the undersea location spreadsheet, and restoration capability.

While the Commission will be the collection point for this information, we will share it with the Departments and agencies that have direct responsibility for national and homeland security. This information is needed in order to support Federal government national security and emergency preparedness communications programs, for the purposes of providing situational awareness of submarine cable system performance as well as a greater understanding of potential physical threats to the submarine cable systems.

Federal Communications Commission.
Marlene H. Dortch,
Secretary.

[FR Doc. E8-23371 Filed 10-2-08; 8:45 am]

BILLING CODE 6712-01-P